NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 16, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-01-1, 2 items, 2 temporary items). Electronic copies of documents created using electronic mail and word processing associated with collateral training files containing such records as registration forms, attendance records, medical clearances, and examination papers. This schedule also increases the retention period for recordkeeping copies of these files, which were previously approved for disposal.

2. Department of the Army, Agency-wide, (N1-AU-01-7, 2 items, 2 temporary items). Records relating to production base support construction projects and properties. Included are such records as authorizations, test reports, logbooks, design analyses, specifications, original tracings, drawings, and photographs. Also included are electronic copies of records created using electronic mail and word processing.

3. Department of the Army, Agency-Wide (N1-AU-00-15, 33 items, 33 temporary items). Records relating to Army food and clothing programs, including electronic copies of documents created using electronic mail and word processing. Records relate to such matters as the day-to-day operations of dining facilities, the delivery of rations, the development of menus, the establishment or discontinuance of bakeries and similar facilities, requisitions, and the management of clothing and textile programs. This schedule authorizes the agency to expedite disposal of these short-term facilitative records, which were previously approved for disposal. It also authorizes the agency to apply the proposed disposition instructions to records in all media.

4. Department of Defense, Assistant Secretary (Health Affairs) (N1-330-99-2, 1 item, 1 temporary item). Duplicate copies of medical records of Gulf War participants collected by the Comprehensive Clinical Evaluation Program. Included are referral forms, lab test reports, and self-reported medical data. Records are proposed for retention for 75 years.

5. Department of Defense, Defense Contract Audit Agency (N1-372-01-1, 38 items, 38 temporary items). Records relating to the administration and implementation of Federal quality of work life programs, including child care, elder care, alternative work schedules, job sharing, leave sharing, and telecommuting. Included are such records as approved requests and applications, forms, analyses, policy development documents, and electronic copies of documents created using electronic mail and word processing. This schedule authorizes the agency to apply the proposed disposition instructions to records in all media.

6. Department of Health and Human Services, Program Support Center (N1-998-00-1, 61 items, 60 temporary items). Paper and electronic records of the Program Support Center relating to administrative management activities, including electronic copies of documents created using electronic mail and word processing. Records relate to such matters as audits, budget preparation and execution, delegations of authority, forms management, the reimbursement of grantees and contractors, personnel management, procurement policies and procedures, the inventorying of narcotics and other controlled substances, and the preparation of directives and other issuances. Recordkeeping copies of case files relating to the disposal of surplus real property are proposed for permanent retention.

7. Department of Health and Human Services, Health Care Financing Administration (N1-440-00-2), 5 items, 5 temporary items). Records relating to Y2K efforts, including such matters as policy and planning, system testing and verification, project administration, and contractor activities. Also included are electronic copies of records created using electronic mail and word processing as well as videotapes that relate to meetings and training.

8. Department of Health and Human Services, Health Care Financing Administration (N1-440-00-3), 3 items, 3 temporary items). Records relating to Medicaid's Home and Community-Based Waiver Program, including state requests for waivers, subsequent correspondence, and related background materials and working papers. Also included are electronic copies of records created using electronic mail and word processing.

9. Department of Justice, Bureau of Prisons (N1-129-99-9, 11 items, 8 temporary items). Files of the Program Review Division pertaining to routine administrative matters, the accreditation of facilities by the American Correctional Association, and management assessment and strategic planning. Also included are electronic copies of documents created using electronic mail and word processing. Recordkeeping copies of statistics compiled for Executive Staff meetings and profiles of institutions are proposed for permanent retention as are briefing materials provided the Executive Staff for use in decision making. This schedule was published in the Federal Register on March 15, 1999. It is being published again because accreditation records, which were previously proposed for permanent retention, are now proposed for disposal.

10. Department of State, Executive Secretariat (N1-59-01-1, 1 item, 1 temporary item). Videotapes of the proceedings of Congressional investigations of the Iran-Contra affair. Copies of these records accumulated by the Congress have already been transferred to the National Archives.

11. Department of the Treasury, Bureau of the Public Debt (N1-53-00-6, 23 items, 23 temporary items). Records of the Division of Data Services consisting primarily of files relating to coupons, the stubs removed from bonds in order to redeem interest. Also included are such records as forms used to request copies of program documents, audits, and files relating to cases in which securities are used to pay Federal estate taxes.

12. Department of the Treasury, Bureau of the Public Debt (N1-53-00-08, 3 items, 3 temporary items). Records of the Division of Technical Services that track the development of information technology systems. Records include the database used for tracking and the related inputs and outputs.

13. Department of the Treasury, Bureau of the Public Debt (N1-53-00-10, 14 items, 14 temporary items). Paper and electronic records pertaining to the sale and registration of savings bonds, including vault logs, depositor reports, enrollment forms, and transfer and reinvestment forms.

14. Department of the Treasury, Bureau of the Public Debt (N1-53-00-11, 3 items, 3 temporary items). Records of the Division of Technical Services relating to ADP equipment problems and subsequent corrective action and to the procurement of ADP equipment. Electronic copies of documents created using electronic mail and word processing are included.

15. Environmental Protection Agency, Chair or Co-Chair of the Committee on the Challenges of Modern Society (N1-412-99-20, 6 items, 1 temporary item). Electronic copies of documents created using electronic mail and word processing that are associated with records relating to the North Atlantic Treaty Organization (NATO) Committee on the Challenges of Modern Society. Proposed for permanent retention are recordkeeping copies of files relating to the programs, policies, and activities of the Committee, including correspondence, proposals, studies, reports, and minutes of meetings.

16. Federal Reserve System, Board of Governors (N1-82-00-2, 53 items, 49 temporary items). Records documenting the oversight activities of the Board of Governors of the Federal Reserve System, including the monitoring, inspection, and examination of financial institutions. Included are such files as applications, examination and inspection reports, studies, legal and enforcement case files, and surveillance reports. Also included are electronic copies of documents created using electronic mail and word processing. This schedule authorizes the agency to apply the proposed disposition instructions to records in all media. Record-keeping copies of such files as regulatory case files, policy directives, and advisory committee records are proposed for permanent retention. These records will be transferred to the National Archives in an electronic medium if feasible. If transfer in an electronic medium is not feasible, paper or microform copies will be transferred.

17. Federal Retirement Thrift Investment Board, Office of the General Counsel (N1-474-00-4, 3 items, 3 temporary items). Records relating to bankrupt Thrift Saving Plan participants, including electronic copies of records created using electronic mail and word processing.

18. Federal Retirement Thrift Investment Board, Office of Administration (N1-474-00-5, 2 items, 2 temporary items). Imaged and paper copies of forms, correspondence, and legal documents filed by or for Thrift Savings Plan participants.

19. Pension Benefit Guaranty Corporation, Insurance Operations Department (N1-465-01-1, 6 items, 6 temporary items). Records that have been imaged relating to individuals covered by a private'sector pension plan. Files include correspondence, copies of personal documents, calculation sheets showing benefit entitlement, and employment information. Electronic copies of documents created using electronic mail, spreadsheet, and word processing applications also are included. Files that pre-date the imaging system were previously approved for disposal.

20. Tennessee Valley Authority, Customer Services and Marketing, (N1-142-99-8, 12 items, 10 temporary items). Background materials relating to the development of publications concerning community and economic development, including electronic copies of documents created using electronic mail and word processing. Also included is a CD-ROM prepared for the use of participants in the agency's Quality Communities program. Recordkeeping copies of publications are proposed for permanent retention.

Dated: November 21, 2000.
Michael J. Kurtz,
Assistant Archivist for Record Services—Washington, DC.

[FR Doc. 00-30468 Filed 11-29-00; 8:45 am]

BILLING CODE 7515-01-U